DEPARTMENT OF THE INTERIOR

National Park Service

[NPS-WASO-NAGPRA-NPS0031241; PPWOCRADN0-PCU00RP14.R50000]

Notice of Inventory Completion: Wistariahurst Museum, Holyoke, MA

AGENCY: National Park Service, Interior.

ACTION: Notice.

SUMMARY: The Wistariahurst Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Wistariahurst Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Wistariahurst Museum at the address in this notice by January 19, 2021.

ADDRESSES: Penni Martorell, Wistariahurst Museum, 238 Cabot Street, Holyoke, MA 01040, telephone (413) 322-5660, email MartorellP@Holyoke.org.

SUPPLEMENTARY INFORMATION: Notice is here given in accordance with the Native American Graves Protection and Repatriation Act (NAGPRA), 25 U.S.C. 3003, of the completion of an inventory of human remains and associated funerary objects under the control of the Wistariahurst Museum, Holyoke, MA. The human remains and associated funerary objects were removed from Holyoke Highlands, Hampden County, MA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Wistariahurst Museum professional staff in consultation with representatives of the Stockbridge Munsee Community, Wisconsin. The Delaware Tribe of Indians; Mohegan Tribe of Indians of Connecticut (previously listed as Mohegan Indian Tribe of Connecticut); and the Narragansett Indian Tribe were invited to consult but did not participate (hereafter, all the above Indian Tribes are referred to as “The Consulted and Invited Tribes”).

History and Description of the Remains

In March of 1904, human remains representing, at minimum, one individual were removed from Holyoke Highlands in Hampden County, MA. The Holyoke Water Power Company uncovered the human remains while excavating a building site. A newspaper article in the Holyoke Telegram-Transcript of March 9, 1904 describes the circumstances of this discovery:

One of the most important archaeological discoveries in this Vicinity was made yesterday by workmen of the Holyoke Water Power Company who in making some excavations in this city, unearthed what is supposed to have been the remains of an Indian warrior, long since dead. Undoubtedly the body of the deceased Indian had lain in the ground for several hundred years as it was entirely decomposed; so that not even the bones remained intact with the exception of two small fragments, one of which is supposed to be part of a jaw-bone and the other is so small that its exact kind cannot be determined.

In the same place were found a necklace of copper and shell beads about a foot in length. The copper beads were one-fourth to a half inch in diameter and the copper used in the composition of the beads showed that they were made of sheet metal which had been rolled into shape. As the Indians did no smelting the copper must have come from the west where it is found in large quantities than in this part of the country. The shells used in the beads were oblong-shaped, about 1½ inches long and half an inch in width and were a sort of bone composition. The copper and shell beads alternated every fifth bead being of shell followed by four copper ones. In the excavation were also a few small conch shells and two tubes of purplish-red sand-stone, one about 10 inches long and one inch in diameter and the other six inches long and the same diameter. . .

The articles discovered, however, will be photographed and the black substance in the tubes will be analyzed. Through the generosity of the Holyoke Water Power Company, all of these important relics have been presented to the Holyoke library association and are now in their possession.

Under the April 1980 Agreement for Judgment in City of Holyoke v. Holyoke Public Library Corporation (Civil Action No. 75-2093), the Indian and Natural History Collections were deeded to the City of Holyoke, of which the Wistariahurst Museum is a department. No known individual was identified. The 53 associated funerary objects are two steatite tube pipes (one pipe is broken), 43 copper beads, one bone bead, five shell beads, one small bone fragment, and one animal jawbone fragment. With the exception of the beads, all the associated funerary objects are mounted on an orange plaque.

In her article Native Land Use and Settlements in Northeastern Woodlands and Schaghticoke and Points North: Wobanaki Resistance and Persistence, Native American scholar Marge Bruchac suggests that many Connecticut River Valley Tribes were forced out of the area, and as a consequence, they merged with other Indian Tribes. So, for example, the Nipmuc could have moved in with the Schaghticoke and Stockbridge Munsee. Holyoke, located on the western side of the Connecticut River, would thus have lain at the convergence of these many tribal groups.

Determinations Made by the Wistariahurst Museum

Officials of the Wistariahurst Museum have determined that:

• Pursuant to 25 U.S.C. 3001(9), the human remains described in this notice represent the physical remains of one individual of Native American ancestry.

• Pursuant to 25 U.S.C. 3001(3)(A), the 53 objects described in this notice are reasonably believed to have been placed with or near individual human remains at the time of death or later as part of the death rite or ceremony.

• Pursuant to 25 U.S.C. 3001(2), there is a relationship of shared group identity that can be reasonably traced between the Native American human remains and associated funerary objects and the Stockbridge Munsee Community, Wisconsin.

Additional Requestors and Disposition

Lineal descendants or representatives of any Indian Tribe or Native Hawaiian organization not identified in this notice that wish to request transfer of control of these human remains and associated funerary objects should submit a written request with information in support of the request to Penni Martorell, Wistariahurst Museum, 238 Cabot Street, Holyoke, MA 01040, telephone (413) 322-5660, email MartorellP@Holyoke.org, by January 19, 2021. After that date, if no additional requestors have come forward, transfer of control of the human remains and associated funerary objects to the Stockbridge Munsee Community, Wisconsin may proceed.

The Wistariahurst Museum is responsible for notifying The Consulted and Invited Tribes that this notice has been published.

Dated: December 9, 2020.
Melanie O'Brien,
Manager, National NAGPRA Program.

[FR Doc. 2020-27873 Filed 12-17-20; 8:45 am]

BILLING CODE 4312-52-P